DEPARTMENT OF COMMERCE

Foreign-Trade Zones Board

[B-27-2025]

Foreign-Trade Zone (FTZ) 102, Notification of Proposed Production Activity; Tight Line Composites LLC; (Carbon Fiber Profiles for Wind Turbine Spar Caps); Earth City, Missouri

Tight Line Composites LLC (Tight Line) submitted a notification of proposed production activity to the FTZ Board (the Board) for its facility in Earth City, Missouri, within FTZ 102. The notification conforming to the requirements of the Board's regulations (15 CFR 400.22) was received on April 21, 2025.

Pursuant to 15 CFR 400.14(b), FTZ production activity would be limited to the specific foreign-status materials/components and the specific finished product described in the submitted notification (summarized below) and subsequently authorized by the Board. The benefits that may stem from conducting production activity under FTZ procedures are explained in the background section of the Board's website—accessible via www.trade.gov/ftz.

The proposed finished product is carbon fiber profiles (duty rate is duty-free).

The proposed foreign-status materials/components include carbon fiber tow, epoxy resin, and woven nylon 6,6 peel ply fabric (in widths not exceeding 300mm) (duty rate ranges from duty-free to 6.1%). The request indicates that certain materials/components may be subject to duties under section 1702(a)(1)(B) of the International Emergency Economic Powers Act (section 1702) or section 301 of the Trade Act of 1974 (section 301), depending on the country of origin. The applicable section 1702 and section 301 decisions require subject merchandise to be admitted to FTZs in privileged foreign (PF) status (19 CFR 146.41). The request also indicates that Epoxy Resin is subject to an antidumping/countervailing duty (AD/CVD) investigation if imported from China, India, South Korea, Taiwan, or Thailand. The Board's regulations (15 CFR 400.13(c)(2)) require that merchandise subject to AD/CVD orders, or items which would be otherwise subject to suspension of liquidation under AD/CVD procedures if they entered U.S. customs territory, be admitted to the zone in PF status.

Public comment is invited from interested parties. Submissions shall be addressed to the Board's Executive Secretary and sent to: ftz@trade.gov. The closing period for their receipt is June 16, 2025.

A copy of the notification will be available for public inspection in the “Online FTZ Information System” section of the Board's website.

For further information, contact Luke Engan at Luke.Engan@trade.gov.

Dated: April 30, 2025.
Elizabeth Whiteman,
Executive Secretary.

[FR Doc. 2025-07754 Filed 5-2-25; 8:45 am]

BILLING CODE 3510-DS-P